DEPARTMENT OF AGRICULTURE

Animal and Plant Health Inspection Service

[Docket No. APHIS-2022-0054]

Notice of Request for Extension of Approval of an Information Collection; Case-Control Study on Highly Pathogenic Avian Influenza in Poultry

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the case-control study on highly pathogenic avian influenza in U.S. commercial poultry flocks.

DATES: We will consider all comments that we receive on or before December 27, 2022.

ADDRESSES: You may submit comments by either of the following methods:

• Federal eRulemaking Portal: Go to www.regulations.gov. Enter APHIS-2022-0054 in the Search field. Select the Documents tab, then select the Comment button in the list of documents.

• Postal Mail/Commercial Delivery: Send your comment to Docket No. APHIS-2022-0054, Regulatory Analysis and Development, PPD, APHIS, Station 3A-03.8, 4700 River Road Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on this HPAI in poultry study, contact Dr. Alice Green, Veterinary Medical Officer, Center for Epidemiology and Animal Health, VS, APHIS, 2150 Centre Avenue, Building B, Fort Collins, CO 80526; (970) 494-7528. For more detailed information on the information collection, contact Mr. Joseph Moxey, APHIS' Paperwork Reduction Act Coordinator, at (301) 851-2483.

SUPPLEMENTARY INFORMATION: Title: Case-Control Study on Highly Pathogenic Avian Influenza in Poultry.

OMB Control Number: 0579-0483.

Type of Request: Extension of approval of an information collection.

Abstract: Under the Animal Health Protection Act (7 U.S.C. 8301 et seq.), the Secretary of Agriculture is authorized to protect the health of livestock, poultry, and aquaculture populations in the United States by preventing the introduction and interstate spread of serious diseases and pests of livestock, poultry, and aquaculture, and for eradicating such diseases within the United States when feasible. This authority has been delegated to the Animal and Plant Health Inspection Service (APHIS).

Highly pathogenic avian influenza (HPAI) is an infectious and fatal disease of poultry. Between February and June 2022, APHIS mobilized over 1,125 employees to respond to outbreaks of HPAI within the United States. As of the end of May 2022, nearly $800 million in Federal expenditures has been authorized to support emergency response work in relation to HPAI, which affected over 40 million birds.

Avian influenza viruses vary in transmissibility and ability to cause disease symptoms. Evidence suggests that the predominance of infections in 2022 have been due to independent wild bird introductions. As the risk of a resurgence of new infections increases, it is critical to identify current risk factors to mitigate future outbreaks.

APHIS initiated an HPAI study in 2022 and will continue the study as needed to generate up-to-date information for determining current risk factors for infection with this environmentally hardy foreign animal disease pathogen. Current information on risk factors is critical for science-based updates to prevention and control recommendations.

The information collection activity associated with this study consists of a multi-question survey administered to commercial poultry producers.

APHIS requested and was granted emergency approval to use this information collection activity for 6 months. We are asking the Office of Management and Budget (OMB) to approve our use of this information collection activity for an additional 3 years in the event the study needs to be extended because of unanticipated outbreaks.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.45 hours per response.

Respondents: State agricultural officials and poultry producers.

Estimated annual number of respondents: 270.

Estimated annual number of responses per respondent: 1.289.

Estimated annual number of responses: 348.

Estimated total annual burden on respondents: 155 hours. (Due to averaging, the total annual burden hours may not equal the product of the annual number of responses multiplied by the reporting burden per response.)

All responses to this notice will be summarized and included in the request for OMB approval. All comments will also become a matter of public record.

Done in Washington, DC, this 25th day of October 2022.
Anthony Shea,
Administrator, Animal and Plant Health Inspection Service.

[FR Doc. 2022-23537 Filed 10-27-22; 8:45 am]

BILLING CODE 3410-34-P